Proclamation 7397 of January 17, 2001

Establishment of the Sonoran Desert National Monument

By the President of the United States of America

A Proclamation

The Sonoran Desert National Monument is a magnificent example of untrammeled Sonoran desert landscape. The area encompasses a functioning desert ecosystem with an extraordinary array of biological, scientific, and historic resources. The most biologically diverse of the North American deserts, the monument consists of distinct mountain ranges separated by wide valleys, and includes large saguaro cactus forest communities that provide excellent habitat for a wide range of wildlife species.

The monument's biological resources include a spectacular diversity of plant and animal species. The higher peaks include unique woodland assemblages, while the lower elevation lands offer one of the most structurally complex examples of palo verde/mixed cacti association in the Sonoran Desert. The dense stands of leguminous trees and cacti are dominated by saguaros, palo-verde trees, ironwood, prickly pear, and cholla. Important natural water holes, known as tinajas, exist throughout the monument. The endangered acuna pineapple cactus is also found in the monument.

The most striking aspect of the plant communities within the monument are the abundant saguaro cactus forests. The saguaro is a signature plant of the Sonoran Desert. Individual saguaro plants are indeed magnificent, but a forest of these plants, together with the wide variety of trees, shrubs, and herbaceous plants that make up the forest community, is an impressive site to behold. The saguaro cactus forests within the monument are a national treasure, rivaling those within the Saguaro National Park.

The rich diversity, density, and distribution of plants in the Sand Tank Mountains area of the monument is especially striking and can be attributed to the management regime in place since the area was withdrawn for military purposes in 1941. In particular, while some public access to the area is allowed, no livestock grazing has occurred for nearly 50 years. To extend the extraordinary diversity and overall ecological health of the Sand Tanks Mountains area, land adjacent and with biological resources similar to the area withdrawn for military purposes should be subject to a similar management regime to the fullest extent possible.

The monument contains an abundance of packrat middens, allowing for scientific analysis of plant species and climates in past eras. Scientific analysis of the midden shows that the area received far more precipitation 20,000 years ago, and slowly became more arid. Vegetation for the area changed from juniper- oak-pinion pine woodland to the vegetation found today in the Sonoran Desert, although a few plants from the more mesic period, including the Kofa Mountain barberry, Arizona rosewood, and junipers, remain on higher elevations of north-facing slopes.

The lower elevations and flatter areas of the monument contain the creosote-bursage plant community. This plant community thrives in the open expanses between the mountain ranges, and connects the other plant communities together. Rare patches of desert grassland can also be found throughout the monument, especially in the Sand Tank Mountains area. The washes in the area support a much denser vegetation community than the surrounding desert, including mesquite, ironwood, paloverde, desert honeysuckle, chuperosa, and desert willow, as well as a variety of herbaceous plants. This vegetation offers the dense cover bird species need for successful nesting, foraging, and escape, and birds heavily use the washes during migration.

The diverse plant communities present in the monument support a wide variety of wildlife, including the endangered Sonoran pronghorn, a robust population of desert bighorn sheep, especially in the Maricopa Mountains area, and other mammalian species such as mule deer, javelina, mountain lion, gray fox, and bobcat. Bat species within the monument include the endangered lesser long-nosed bat, the California leaf-nosed bat, and the cave myotis. Over 200 species of birds are found in the monument, including 59 species known to nest in the Vekol Valley area. Numerous species of raptors and owls inhabit the monument, including the elf owl and the western screech owl. The monument also supports a diverse array of reptiles and amphibians, including the Sonoran desert tortoise and the red-backed whiptail. The Bureau of Land Management has designated approximately 25,000 acres of land in the Maricopa Mountains area as critical habitat for the desert tortoise. The Vekol Valley and Sand Tank Mountain areas contain especially diverse and robust populations of amphibians. During summer rainfall events, thousands of Sonoran green toads in the Vekol Valley can be heard moving around and calling out.

The monument also contains many significant archaeological and historic sites, including rock art sites, lithic quarries, and scattered artifacts. Vekol Wash is believed to have been an important prehistoric travel and trade corridor between the Hohokam and tribes located in what is now Mexico. Signs of large villages and permanent habitat sites occur throughout the area, and particularly along the bajadas of the Table Top Mountains. Occupants of these villages were the ancestors of today's O'odham, Quechan, Cocopah, Maricopa, and other tribes. The monument also contains a much used trail corridor 23 miles long in which are found remnants of several important historic trails, including the Juan Bautista de Anza National Historic Trail, the Mormon Battalion Trail, and the Butterfield Overland Stage Route.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS, it appears that it would be in the public interest to reserve such lands as a national monument to be known as the Sonoran Desert National Monument.

NOW, THEREFORE, I, WILLIAM J. CLINTON, President of the United States of America, by the authority vested in me by section 2 of the Act of June 8, 1906 (34 Stat. 225, 16 U.S.C. 431), do proclaim that there are hereby set apart and reserved as the Sonoran Desert National Monument, for the purpose of protecting the objects identified above, all lands and interest in lands owned or controlled by the United States within the boundaries of the area described on the map entitled “Sonoran Desert National Monument” attached to and forming a part of this proclamation. The Federal land and interests in land reserved consist of approximately 486,149 acres, which is the smallest area compatible with the proper care and management of the objects to be protected.

For the purpose of protecting the objects identified above, all motorized and mechanized vehicle use off road will be prohibited, except for emergency or authorized administrative purposes.

Nothing in this proclamation shall be deemed to enlarge or diminish the jurisdiction of the State of Arizona with respect to fish and wildlife management.

The establishment of this monument is subject to valid existing rights.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument. Lands and interests in lands within the monument not owned by the United States shall be reserved as a part of the monument upon acquisition of title thereto by the United States.

This proclamation does not reserve water as a matter of Federal law nor relinquish any water rights held by the Federal Government existing on this date. The Federal land management agencies shall work with appropriate State authorities to ensure that water resources needed for monument purposes are available.

The Secretary of the Interior shall manage the monument through the Bureau of Land Management, pursuant to applicable legal authorities, to implement the purposes of this proclamation. That portion identified as Area A on the map, however, shall be managed under the management arrangement established by section 3 of Public Law No. 99-606, 100 Stat. 3460-61, until November 6, 2001, at which time, pursuant to section 5(a) of Public Law No. 99-606, 100 Stat. 3462-63, the military withdrawal terminates. At that time, the Secretary of the Interior shall assume management responsibility for Area A through the Bureau of Land Management.

The Secretary of the Interior shall prepare a management plan that addresses the actions, including road closures or travel restrictions, necessary to protect the objects identified in this proclamation.

Laws, regulations, and policies followed by the Bureau of Land Management in issuing and administering grazing permits or leases on all lands under its jurisdiction shall continue to apply with regard to the lands in the monument; provided, however, that grazing permits on Federal lands within the monument south of Interstate Highway 8 shall not be renewed at the end of their current term; and provided further, that grazing on Federal lands north of Interstate 8 shall be allowed to continue only to the extent that the Bureau of Land Management determines that grazing is compatible with the paramount purpose of protecting the objects identified in this proclamation.

Nothing in this proclamation shall be deemed to revoke any existing withdrawal, reservation, or appropriation; however, the national monument shall be the dominant reservation.

Nothing in this proclamation shall preclude low level overflights of military aircraft, the designation of new units of special use airspace, or the use or establishment of military flight training routes over the lands included in this proclamation.

In order to protect the public during operations at the adjacent Barry M. Goldwater Range, and to continue management practices that have resulted in an exceptionally well preserved natural resource, the current procedures for public access to the portion of the monument depicted as Area A on the attached map shall remain in full force and effect, except to the extent that the United States Air Force agrees to different procedures which the Bureau of Land Management determines are compatible with the protection of the objects identified in this proclamation.

Warning is hereby given to all unauthorized persons not to appropriate, injure, destroy, or remove any feature of this monument and not to locate or settle upon any of the lands thereof.

IN WITNESS WHEREOF, I have hereunto set my hand this seventeenth day of January, in the year of our Lord two thousand one, and of the Independence of the United States of America the two hundred and twenty-fifth.

Billing code 3195-01-P

[FR Doc. 01-2102

Filed 1-19-01; 8:45 am]

Billing code 3195-01-C